DEPARTMENT OF AGRICULTURE

Forest Service

Revised Land and Resource Management Plan for the Ozark-St. Francis National Forests in Arkansas

AGENCY: Forest Service, USDA.

ACTION: Notice of intent to prepare an environmental impact statement.

SUMMARY: The USDA Forest Service intends to prepare an environmental impact statement (EIS) for revising the Ozark-St. Francis National Forests Land and Resource Management Plan (hereinafter referred to as the Forest Plan) pursuant to 16 U.S.C. 1604(f)(5) and USDA Forest Service National Forest System Land and Resource Management Planning regulations. The revised Forest Plan will supersede the current Forest Plan, which the Regional Forester approved July 29, 1986, and has been amended 11 times.

The agency invites written comments and suggestions within the scope of the analysis described below. In addition, the agency gives notice that a full environmental analysis and decision-making process will occur on the proposal so that interested and affected people are aware of how they may participate and contribute to the final decision.

DATES: Comments on this Notice of Intent (NOI) and, specifically, on the scope of the analysis to be included in the EIS, should be received in writing by August 2, 2002. The agency expects to file the draft EIS (DEIS) with the Environmental Protection Agency (EPA) and make it available for public comment in 2004. The Agency expects to file the final EIS (FEIS) in September of 2005.

ADDRESSES: Submit written comments to: Ozark-St. Francis National Forests, Planning, 605 West Main Street, Russellville, Arkansas 72801. Electronic mail should be sent to: r8.ozark.planning@fs.fed.us

FOR FURTHER INFORMATION CONTACT: Deryl Jevons, Forest Planning Tam Leader, at 479-968-2354. Information will also be posted on the forest web page at http: //www.fs.fed.us/oonf/ozark/planning/planning. The Regional Forester for the Southern Region located at 1720 Peachtree Street, NW., Atlanta, GA 30309, is the Responsible Official.

Affected Counties: This NOI affects Baxter, Benton, Conway, Crawford, Franklin, Johnson, Lee, Logan, Madison, Marion, Newton, Phillips, Pope, Searcy, Stone, Van Burden, Washington, and Yell counties in Arkansas.

SUPPLEMENTARY INFORMATION:

A. Background Information

1. The Role of Forest Plans

National Forest System resource allocation and management decisions are made in two stages. The first stage is the Forest Plan, which involves the establishment of management direction by allocating lands and resources within the plan area to various uses or conditions through management areas and management prescriptions. The second stage is plan implementation through approval of project decisions. forest Plans do not compel the agency to undertake any site-specific projects; rather, they establish overall goals and objectives (or desired resource conditions) that the individual national forest will strive to meet. Forest Plans also establish limitations on what actions may be authorized and what conditions must be met during project decision-making.

Agency decisions in Forest Plans do the following:

a. Establish forest-wide multiple-use goals and objectives (36 CFR 219.11(b)).

b. Establish management areas and management area direction through the application of management prescriptions and multiple-use prescriptions (36 CFR 219.11(c)).

c. Establish monitoring and evaluation requirements (36 CFR 219.11(d)).

d. Establish forest-wide management requirements (standards and guidelines) (36 CFR 219.13 to 219.27).

e. Determine the suitability and potential capability of lands for resource production. This includes identifying lands not suited for timber production and establishment of allowable sale quantity (36 CFR 219.14).

f. Where applicable, recommend official designation of special areas such as wilderness (36 CFR 219.17) and wild and scenic rivers to Congress.

g. Where applicable, designate those lands administratively available for oil and gas leasing and, when appropriate, authorize the Bureau of Land Management to offer specific lands for leasing. (36 CFR 228.102(d) and (e)).

Note: The above citations are from the 1982 36 CFR 219 planning regulations. See also section G.

2. The Beginning of the Forest Plan Revision Effort for the Ozark-St. Francis National Forests

For the Forest Plan revision, an effort was made to first define the current situation and estimate the “need for change.” A key part of defining the current situation was the Ozark-Ouachita Highlands Assessment. On October 16, 1996, a notice was published in the Federal Register (Vol. 61, No. 201) that identified the relationships between the Ozark-Ouachita Highlands Assessment and Forest Plan revisions for the National Forests in Arkansas, Missouri, and Oklahoma. In addition to reviewing the results of this broad-scale assessment and the draft conclusions of a more recent assessment (described below), the Forests evaluated the “initial need for change” using the experience of employees responsible for implementing the Forest Plan as well as the results of the mid-plan review, monitoring, research, and public comments received from 1990 through early 2002. These evaluations are the basis for the preliminary issues and proposed actions identified in this notice. Additional issues or topics will be developed as needed to respond to public comments received in response to this NOI and subsequent scoping efforts.

3. The Ozark-Ouachita Highlands Assessment and the Southern Forest Resource Assessment

The U.S. Forest Service and many other agencies participated in the preparation of the Ozark-Ouachita Highlands Assessment, which culminated in a final summary and four technical reports that were made available to the public in early 2000 (available at the Forest Plan web page address provided near the beginning of this document). This Assessment included national forest system lands and private lands within the highlands of Arkansas, Missouri, and Oklahoma.

The Assessment facilitated ecologically based approaches to public land management in the Ozark-Ouachita Highlands by collecting and analyzing broadscale biological, physical, social, and economic data. The Assessment supports the revision of the Forest Plan by describing how the lands, resources, people, and management of the national forests interrelate within the larger context of the Ozark-Ouachita Highlands area. This Assessment, however, is not a “decision document” and it did not involve the National Environmental Policy Act (NEPA) process.

The Southern Forest Resource Assessment was initiated in May 1999 to examine the status, trends, and potential future of southern forests. The USDA Forest Service led the effort in cooperation with the U.S. Fish and Wildlife Service, EPA, Tennessee Valley Authority, and southern States represented by their forestry and fish and wildlife agencies. This Assessment addresses the sustainability of southern forests in light of increasing urbanization and timber harvests, changing technologies (including chip mills), forest pests, climatic changes, and other factors that influence the region's forests. In late 2001, draft reports from the Southern Forest Resource Assessment were made available to the public. Some of these findings will be incorporated into the revised Forest Plan.

4. Relationship of the Forest Plan Revision for the Ozark-St. Francis National Forests to Revision Efforts for the Mark Twain and the Ouachita National Forests

Forest Plan revision will be conducted simultaneously on these national forests. The Forests anticipate that a separate EIS and revised Forest Plan will be produced for each administrative unit. The respective Forest Supervisors have agreed to coordinate the revisions when feasible and practical. The respective planning teams will work together to address common issues.

5. The Role of Scoping in Revising the Land and Resource Management Plan

This NOI includes a description of “Preliminary Issues” and “Proposed Actions” for the revision of the Forest Plan of the Ozark-St. Francis National Forests. The Proposed Actions concern one or more of the plan decisions identified in the purpose and need. Scoping to receive public comments on the preliminary issues and proposed actions will begin following the publication of this NOI. Public comments received during this period will be used to further define the preliminary issues that should be addressed, the Forest Plan decisions that need to be analyzed (the “proposed actions” and “need for change”), and the range of alternatives that will be developed. For more information on how the public can become involved during the scoping period, see Section F of this NOI.

B. Purpose and Need for Action

The purpose for revising the Forest Plan comes from the requirements for land and resource management planning in the National Forest Management Act (NFMA) and the implementing regulations contained in 36 CFR 219. According to 36 CFR 219.10(g), Forest Plans are ordinarily revised on a 10-15 year cycle. The need to revise this Forest Plan is also driven by the changing conditions identified in the Ozark-Ouachita Highlands Assessment, the Southern Forest Resource Assessment, and ongoing monitoring and evaluation results.

C. Preliminary Issues

Preliminary issues for the Ozark-St. Francis National Forests plan revision focus on parts of the current Forest Plan where change may be needed. The preliminary issues were derived from: the Ozark-Highlands Assessment, the Southern Forest Resource Assessment, internal comments from forest managers, results of monitoring, the mid-plan review, and a series of public meetings. The proposed actions in section D give a detailed description of why the issues were developed.

1. Mix of Developed Recreation Opportunities

The Forest needs to determine the type of development, settings, and services to provide in the next 15 years.

2. Public Access and Dispersed Recreation Opportunities

The Forest needs to determine the combination of land allocation for motorized and non-motorized trail and road access to minimize conflict among users, provide recreation opportunities, and protect the resources.

3. Special Areas

The Forest needs to determine what special areas are needed. Some examples are: wild and scenic rivers, special interest areas, wilderness, scenic byways, research natural areas (RNAs), and experimental forests.

4. Ecosystem Health and Sustainability

The Forest needs to determine what actions and land allocations are needed to insure the health of ecosystems while considering plant, animal, and human interaction.

5. Relationship of NFMA to Communities and Economies

The issue is how to balance the economic and social needs of the public while managing for forest health and sustainability.

D. Proposed Actions

The following proposed actions are being considered for revision in the Forest Plan. Each was placed into one of two categories: (1) Actions appropriate for inclusion in the revision because of laws or regulation. (2) Actions identified based on information found in monitoring reports, insight from Forest Service employees regarding the effectiveness of the current Plan, and public demand.

1. Actions Appropriate for Inclusion in the Forest Plan Revision

The following topics will be included in the Forest Plan revision because law and/or regulation require them to be considered in all Forest Plan revisions:

a. Wild and Scenic Rivers

The Wild and Scenic Rivers Act of 1968 was enacted to protect and preserve, in their free-flowing condition, certain selected rivers of the nation and their immediate environments. The Act established the National Wild and Scenic Rivers System, designated rivers to be included in the system, established policy for managing designated rivers, and prescribed a process for designating additional rivers to the system. The Act, in Section 5(d)(1), requires consideration of potential additions to the National System as part of the ongoing planning process.

The 1986 Forest Plan determined the rivers identified by the Department of the Interior through the Nationwide Rivers Inventory (1982) were eligible for further study. In April 1987, the Forest completed Amendment 2 to the Forest Plan, which classified each eligible river and established direction to protect those rivers until a suitability study could be completed. The Forest completed the sustainability study in 1991. The FEIS and Study Report evaluated 13 rivers, and recommended six. On April 23, 1992, Congress amended the Wild and Scenic Rivers Act, adding the six recommended rivers into the Wild and Scenic Rivers System. The Forests will review other rivers to see if they may be eligible for further study.

b. Wilderness Recommendation

Forest Service policy and regulations in 36 CFR 219.17, require that roadless areas be evaluated and considered for recommendation as potential wilderness during the forest planning process. The Ozark-St. Francis National Forests currently have five wilderness areas. Management Area 1 of the 1986 Forest Plan provides direction for these areas. These wildernesses were originally identified in the Roadless Area Review and Evaluation, known as RARE II. There are approximately 73,000 acres left from RARE II not designated as wilderness. This land was identified in a set of inventoried roadless area maps contained in the Forest Service Roadless Area Conservation, FEIS, Volume 2, dated November 2000. Forest Service interim direction 1920-2001-1, dated December 14, 2001, stated lands remaining from the RARE II inventory would be re-evaluated for roadless area characteristics during the Forest Plan revision process. The proposed action is for the Forest to evaluate these lands as well as any other lands that meet the criteria for inventoried roadless areas for potential wilderness area consideration.

c. Reevaluation of Lands Not Suited for Timber

NFMA and its implementing regulations require identification of lands suitable for timber management. The revision process provides an opportunity to reassess and better define lands suitable for timber management and to account for changes in land status and uses. The revision will also use technology (such as GIS data) that was not available during development of the original Forest Plan. The proposed action is to better define which lands are suited for timber production and make appropriate adjustments.

2. Need for Change—Proposed Actions

The following proposed actions will be included in the revision based on the following: information found in monitoring reports, insight from Forest Service employees and their experience with the current Plan, new direction and policy, the results from the Ozark-Highlands Assessment, and a series of public meetings.

Ecosystem Sustainability

a. Oak Decline and Oak Mortality: Oak Decline is occurring throughout the oak component of the forest due to advanced age, low site index, and three years of drought. These factors have led to an unprecedented insect epidemic of red oak borer, which has caused significant mortality on approximately 300,000 acres.

At present the primary areas of mortality are located on the Pleasant Hill, Bayou, and Boston Mountain Ranger Districts. Trees are being killed on all sites and in all age classes due to the epidemic proportions of the insect population. The Forest has approximately 700,000 acres of mature hardwood forest. Red oaks occur in about 95% of the hardwood forest. The Forest Plan does not address oak decline or mortality. The proposed action is to develop management plan direction to improve forest health and restore the oak ecosystem.

b. Silvicultural Practices: During plan development for the 1986 Forest Plan and during the appeal to the Plan in 1991, the public raised many questions concerning the types of silvicultural systems being proposed. At that time, there was little in the way of published research to support the effectiveness of silvicultural practices on the Ozark-St. Francis National Forests. Since that time, much has been learned. Monitoring has provided valuable insight for determining what does and does not work regarding reforestation practices. Research conducted through the Southern Research Station and the Ouachita/Ozark NFs has improved our understanding of shade tolerance, species composition, and stand dynamics. In addition, an increased emphasis on prescribed fire and the development of new herbicides with better effectiveness require evaluation for inclusion in this plan revision. The proposed action is to revise and update silvicultural practices available to forest managers.

c. Management Area Boundaries: The current Forest Plan divided the Forest into eight management areas based on similar management direction. The proposed action is to re-evaluate the effectiveness of these designations.

d. Ecological Monitoring: Since the 1986 Forest Plan, knowledge of ecological interactions has grown. Strategies for monitoring and evaluating effects of forest management on ecosystems need to be re-evaluated in light of increased knowledge. Revisions of these strategies would include revising the list of Management Indicator Species (MIS). The proposed action is to revise the monitoring requirements.

e. Wildlife Management Practices: The knowledge about managing wildlife from an ecological perspective has increased since the 1986 Forest Plan. Restoration of certain ecosystems through timber management and prescribed fire could supplement or replace the current food plot concept. Forest age class distribution is heavily weighted toward the older age classes, which in turn has negatively affected wildlife species dependent upon early and mid-seral habitat. Loss of the red oak on much of the Forest will negatively affect species dependent upon mast. Silvicultural prescriptions designed to balance age classes, re-established the red oak, and create early seral habitat need to be considered. The proposed action is to develop wildlife management practices incorporating ecological concepts.

f. Prescribed Burning: The 1986 Plan did not recognize fire dependent ecosystems. It is now recognized that fire played a significant role in the development of the vegetation on the Ozark-St. Francis National Forests. Landscape scale burning is a common practice for many forests today. This technique is more efficient and incorporates the concepts of ecosystem management in sustaining forest health. In order to burn larger areas, some of the standards in the Plan need to be reviewed. The proposed action is to provide for landscape scale burning and to recognize fire as a management tool needed to sustain the forest.

g. Riparian Areas: Areas next to lakes, perennial, ephemeral, and intermittent streams on the Ozark-St. Francis National Forests are important for protecting water quality, fish, and other aquatic resources. Riparian areas are complex ecosystems that provide food, habitat, and movement corridors for both water and land animal communities. Streamside management zones (SMZs) are needed to help minimize nonpoint source pollution to surface waters, and manage these important areas. The Ozark-St. Francis National Forests' current direction as outlined in Amendment 5 of the Forest Plan is hard to implement for ephemeral streams. The proposed action is to revise the Plan to incorporate riparian area management direction and to insure SMZ standards can be implemented.

h. Natural Processes: During the past 15 years, the Forest has experienced a number of catastrophic events such as fire, windstorms, floods, and insect damage. It is recognized that although they appear catastrophic, these events are part of natural processes. The current Forest Plan does not provide any direction or guidance for addressing these events. The proposed action is to provide management guidelines that work with natural processes and recognize how catastrophic disturbances can contribute to forest health and productivity.

Recreation Management: The Ozark-St. Francis National Forests are managed to provide a variety of recreational opportunities within a wide range of settings. The demand for new recreational opportunities including OHV/motorcycle use rock climbing, horseback riding, canoeing, kayaking, and full-service campsites has increased dramatically in the past decade. Trends indicate traditional recreational opportunities, including hunting, fishing, hiking, and primitive camping are expected to continue in popularity. Direction is needed to address trail compatibility with other uses and where these uses should occur.

Customer satisfaction needs to be a monitoring tool. Many areas are being used beyond capacity and resource damage is occurring. The Limits of Acceptable Change (LAC) process could be applied to scenic rivers, special areas, and heavily used dispersed areas. The proposed action is to provide new direction that responds to demand, demographics, marketing strategy, and recreational business management principles.

Recreation Opportunity Spectrum (ROS): ROS is used to classify varieties of outdoor recreational opportunities. The Forest Plan references ROS acreages, but does not use it to describe different settings or opportunities. ROS can be part of the description of the desired future condition (DFC). It can also be used for allocating and separating conflicting or competing uses. Establishing ROS will help with travel management planning, which influences the opportunities for various activities. The proposed action is to identify the ROS allocation for each area of the Forest.

Scenery Management: The 1974 Visual Quality Objective System (VQO) used in the Forest Plan needs to be replaced with the Scenery Management System (SMS). VQO used scenery to mitigate the effects of management actions. SMS recognizes scenery as a resource. SMS will establish overall resource goals and objectives to monitor the scenic resource. The proposed action is to implement SMS and recognize scenery as a resource.

Public Access and Dispersed Recreation: A number of roads have been obliterated or closed in the last decade using earthen mounds, gates, and signs. The current Forest Plan off-highway-vehicle (OHV) direction prohibits cross-country travel. In the past year, there has been a renewed emphasis to enforce the current policy. The closing of roads and emphasis on enforcing the OHV policy has received much attention. Closing areas to motorized use affects traditional access that many perceive as reducing recreational opportunities. Others in the public want areas to be managed as non-motorized uses to increase opportunities for solitude. Forest Service concerns include lack of budgets to maintain the current road system, impacts to the soil and water resources, and impacts to wildlife populations and habitat. The proposed action is to determine the combination of land allocation for motorized and non-motorized trail opportunities and road access to minimize conflict among users, provide recreation opportunities, and protect the resources.

Special Areas

a. Special Interest Areas: The 1986 Forest Plan designated Management Area 7 as Special Interest Areas (SIAs). These areas total approximately 23,000 acres and have unique scenic, geological, botanical, or cultural values. The proposed action is to identify potential additional special interest areas.

b. Scenic Byways: The Ozark-St. Francis National Forests have six scenic byways. Each of these has unique characteristics, which need to be maintained. Corridor managements objectives need to be defined. This may include such things as turnout lanes, vistas, and vegetation management guidelines. There may be other highways that need consideration. The proposed action is for the Plan to provide direction that will protect and enhance the qualities of the scenic byways and determine if other byways should be nominated.

c. Other Special Areas: Other special areas on the Forests include Research Natural Areas (RNAs) and experimental forests. The current Plan has two RNAs: Turkey Ridge (373 acres) on the St. Francis National Forest and Dismal Hollow (2,077 acres) on the Ozark National Forest. The Ozark-St. Francis National Forests also have two experimental forests, the 700-acre Henry Koen Experimental Forest and the 4,200-acre Sylamore Experimental Forest. Both of these areas are administered by the Southern Research Station (SRS). The need for additional RNAs and the continued need for experimental forests will be determined by the revision in coordination with the SRS.

Lands and Special Uses: The current Plan outlined a schedule of proposed land acquisitions and identified them on a map. Experience over the last 15 years has shown this to be too restrictive. Unanticipated acquisition and disposal opportunities have occurred over the last 15 years. The Plan should provide broad direction on acquisition and disposal goals, objectives, and priorities. The process needs to be streamlined to meet public expectations. Lack of funding for landlines is leading to many unsolved trespass cases and makes ROW (right-of-way) acquisition difficult. There are opportunities to consolidate corridors in special uses for electric lines and other utilities. The proposed action is to provide better direction for lands and special uses.

E. Preliminary Alternatives

The actual alternatives presented in the DEIS will portray a full range of responses to the significant issues. The DEIS will examine the effects of implementing strategies to achieve different desired future conditions and will develop possible management objectives and opportunities that would move the forests toward those desired conditions. A preferred alternative will be identified in the DEIS. The range of alternatives presented in the DEIS will include one that continues current management direction and others that will address the range of issues developed in the scoping process.

F. Involving the Public

The objective in the public involvement process is to create an atmosphere of openness where all members of the public feel free to share information with the Forest Service on a regular basis. All parts of this process will be structured to maintain this openness. The Forest Service is seeking information, comments, and assistance from individuals, organization, tribal governments, and federal, state, and local agencies that may be interested in or affected by the proposed action (36 CFR 219.6).

Public participation will be solicited by notifying (in person and/or by mail) known interested and affected publics. News releases will be used to inform the public of various steps of the revision process and locations of public involvement opportunities. Public participation opportunities include written comments, open houses, focus groups, and collaborative forums.

Public participation will be sought throughout the revision process but will be particularly important at several points along the way. The first formal opportunity to comment is during the scoping process (40 CFR 150.7). Scoping includes: (1) Identifying additional potential issues (other than those previously described); (2) from these, identifying significant issues, those which have been covered by prior environmental review or those which are non-significant for the plan revision; (3) exploring additional alternatives; and (4) identifying potential environmental effects of the proposed action and alternatives (i.e., direct, indirect, and cumulative effects). Three public meetings are scheduled during the scoping process.

Date | Location
June 13, 2002 | Russellville, AR.
June 18, 2002 | Jasper, AR.
June 20, 2002 | Springdale, AR.

G. Planning Regulations

The Department of Agriculture published new planning regulations on November 9, 2000. A USDA Forest Service review of this planning rule identified concerns with the ability to implement several provisions of the 2000 rule. There are also lawsuits challenging the 2000 rule that may affect its implementation.

To address these problems, the Chief of the Forest Service has started a process to develop a revision to the November 2000 planning rule. On May 10, 2001, Secretary Veneman signed an interim final rule allowing Forest Plan amendments or revisions initiated before May 9, 2002, to proceed under the new planning rule (November 2000) or under the 1982 planning regulations. The Ozark-St. Francis National Forests will proceed under the 1982 planning regulations pending future direction in revised regulations.

H. Release and Review of the EISs

The DEIS is expected to be filed with the EPA and to be available for public comment by September 2004. At that time, the EPA will publish a notice of availability of the DEIS in the Federal Register. The comment period will be 3 months from the date the EPA publishes the notice of availability in the Federal Register.

The Forest Service believes it is important to give reviewers notice of several court rulings related to public participation in the environmental review process. Reviewers of the DEIS must structure their participation in the environmental review of the proposal so that it is meaningful and alerts an agency to the reviewer's position and contentions. Vermont Yankee Nuclear Power Corp. v. NRDC. 435 U.S. 519, 553 (1978). Also, environmental objections that could be raised at the DEIS stage but that are not raised until after completion of the FEIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 3-month comment period so that substantive comments and objections are made available to the Federal Service at a time when it can meaningfully consider them and respond to them in the FEIS.

To assist the Forest Service in identifying and considering issues and concerns on the proposed actions, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the NEPA at 40 CFR 1503.3 in addressing these points. After the comment period on the DEIS ends, the comments will be analyzed, considered, and responded to by the Forest Service in preparing the FEIS. The scheduled completion of the FEIS is by September 2005. The Responsible Official will consider the comments, responses, and environmental consequences discussed in the FEIS together with all applicable laws, regulations, and policies in making a decision regarding revision. The Responsible Official will document the decision and reasons for the decision in a Record of Decision. This decision may be subject to appeal in accordance with 36 CFR 217.

Dated: April 25, 2002.
R. Gray Pierson,
Acting Deputy Regional Forester.

[FR Doc. 02-10778 Filed 4-30-02; 8:45 am]

BILLING CODE 3410-11-M